DEPARTMENT OF ENERGY

Federal Energy Regulatory Commission

Combined Notice of Filings # 1

July 25, 2007.

Take notice that the Commission received the following electric corporate filings:

Docket Numbers: EC07-117-000.

Applicants: Sunbury Generation LP; Corona Power, LLC.

Description: Joint Application of Sunbury Generation LP and Corona Power LLC for authorization under section 203 of the Federal Power Act.

Filed Date: July 18, 2007.

Accession Number: 20070720-0050.

Comment Date: 5 p.m. Eastern Time on Wednesday, August 8, 2007.

Take notice that the Commission received the following exempt wholesale generator filings:

Docket Numbers: EG07-57-000.

Applicants: EL Segundo Power II LLC.

Description: Notice of Self-Certification of EL Segundo Power II LLC of exempt wholesale generator status.

Filed Date: July 6, 2007.

Accession Number: 20070606-5040.

Comment Date: 5 p.m. Eastern Time on Wednesday, August 1, 2007.

Docket Numbers: EG07-57-000.

Applicants: EL Segundo Power II LLC.

Description: Clarification of June 6, 2007 filing of EL Segundo Power II LLC.

Filed Date: June 26, 2007.

Accession Number: 20070626-5027.

Comment Date: 5 p.m. Eastern Time on Wednesday, August 1, 2007.

Docket Numbers: EG07-61-000.

Applicants: Warm Springs Biomass Project, LLC.

Description: Amendment to Notice of Self-Certification of Exempt Wholesale Generator Status.

Filed Date: July 12, 2007.

Accession Number: 20070711-5233.

Comment Date: 5 p.m. Eastern Time on Thursday, August 2, 2007.

Take notice that the Commission received the following electric rate filings:

Docket Numbers: ER01-666-009.

Applicants: EWO Marketing, LP.

Description: EWO Marketing LP submits the refund report related to refunds.

Filed Date: July 20, 2007.

Accession Number: 20070724-0180.

Comment Date: 5 p.m. Eastern Time on Friday, August 10, 2007.

Docket Numbers: ER04-831-003.

Applicants: Calpine Newark, LLC.

Description: Calpine Newark, LLC submits an updated market analysis in accordance with FERC's letter order dated July 21, 2004.

Filed Date: July 23, 2007.

Accession Number: 20070724-0200.

Comment Date: 5 p.m. Eastern Time on Monday, August 13, 2007.

Docket Numbers: ER04-925-017.

Applicants: Merrill Lynch Commodities, Inc.

Description: Triennial Updated Market Power Analysis for Merrill Lynch Commodities, Inc.

Filed Date: July 19, 2007.

Accession Number: 20070724-0175.

Comment Date: 5 p.m. Eastern Time on Thursday, August 9, 2007.

Docket Numbers: ER06-739-006; ER06-738-006; ER03-983-005; ER07-501-002; ER07-758-001; ER02-537-009.

Applicants: Cogen Technologies Linden Venture, L.P.

Description: Cogen Technologies Linden Venture, LP et al notifies FERC of a change in status resulting from the acquisition of a 100 percent indirect interest in Shady Hills by General Electric Capital Corp.

Filed Date: July 20, 2007.

Accession Number: 20070724-0178.

Comment Date: 5 p.m. Eastern Time on Friday, August 10, 2007.

Docket Numbers: ER07-570-003.

Applicants: New York Independent System Operator, Inc.

Description: New York Independent System Operator, Inc submits revised Market Administration and Control Area Services Tariff and Open Access Transmission Tariff Sheets in compliance w/FERC's July 21, 2007 order.

Filed Date: July 20, 2007.

Accession Number: 20070724-0179.

Comment Date: 5 p.m. Eastern Time on Friday, August 10, 2007.

Docket Numbers: ER07-946-002; ER07-947-002; ER07-948-002.

Applicants: Westar Energy, Inc.

Description: Westar Energy, Inc submits First Revised Sheet 8 to 1st Revised FERC Electric Rate Schedule 226.

Filed Date: July 19, 2007.

Accession Number: 20070724-0176.

Comment Date: 5 p.m. Eastern Time on Thursday, August 9, 2007.

Docket Numbers: ER07-954-001.

Applicants: American Transmission Company LLC.

Description: American Transmission Company LLC submits a response to an informal request for information by FERC Staff regarding the amended Distribution-Transmission Interconnection Agreement filed on May 25, 2007.

Filed Date: July 20, 2007.

Accession Number: 20070724-0177.

Comment Date: 5 p.m. Eastern Time on Friday, August 10, 2007.

Docket Numbers: ER07-1171-001.

Applicants: Arizona Public Service Company.

Description: Arizona Public Service Co submits an errata to the corrected version of the tariff sheets filed in section 205 Filing.

Filed Date: July 20, 2007.

Accession Number: 20070724-0135.

Comment Date: 5 p.m. Eastern Time on Friday, August 10, 2007.

Docket Numbers: ER07-1175-000.

Applicants: Illinois Power Company d/b/a AmerenIP.

Description: Illinois Power Co dba AmerenIP's et al requests approval of the Joint Ownership Agreement with Ameren Transco.

Filed Date: July 19, 2007.

Accession Number: 20070724-0130.

Comment Date: 5 p.m. Eastern Time on Thursday, August 9, 2007.

Docket Numbers: ER07-1176-000.

Applicants: Niagara Mohawk Power Corporation.

Description: Niagra Mohawk Power Co submits a notice of Cancellation of Rate Schedule 172 with Lockport Energy Associates, LP.

Filed Date: July 19, 2007.

Accession Number: 20070724-0131.

Comment Date: 5 p.m. Eastern Time on Thursday, August 9, 2007.

Docket Numbers: ER07-1177-000.

Applicants: Midwest Independent Transmission System Operator, Inc.

Description: Midwest Independent Transmission System Operator, Inc. submits an executed Small Generator Interconnection Agreement with Odin Wind Farm, LLC.

Filed Date: July 19, 2007.

Accession Number: 20070724-0132.

Comment Date: 5 p.m. Eastern Time on Thursday, August 9, 2007.

Docket Numbers: ER07-1178-000.

Applicants: Xcel Energy Operating Companies.

Description: Xcel Energy Services Inc submits the Revised and Restated Interconnection and Interchange Agreement dated July 23, 2007 b/w Northern States Power Company (Minnesota), Northern States Power Co (Wisconsin) etc.

Filed Date: July 19, 2007.

Accession Number: 20070724-0186.

Comment Date: 5 p.m. Eastern Time on Thursday, August 9, 2007.

Docket Numbers: ER07-1179-000.

Applicants: Pacific Gas and Electric Company.

Description: Pacific Gas and Electric Company submits its quarterly filing of Facilities Agreements pursuant to the Procedures for Implementation of section 3.3 of the 1987 Agreement.

Filed Date: July 20, 2007.

Accession Number: 20070724-0182.

Comment Date: 5 p.m. Eastern Time on Friday, August 10, 2007.

Docket Numbers: ER07-1180-000.

Applicants: California Independent System Operator Corporation

Description: Petition of the California Independent System Operator Corp to waive sanctions for violation of section 31.1.4.1 of its tariff through October 18, 2006.

Filed Date: July 20, 2007.

Accession Number: 20070724-0137.

Comment Date: 5 p.m. Eastern Time on Friday, August 10, 2007.

Docket Numbers: ER07-1181-000.

Applicants: New York Independent System Operator, Inc.

Description: New York Independent System Operator, Inc submits a single limited revision to its Open Access Transmission Tariff.

Filed Date: July 20, 2007.

Accession Number: 20070724-0136.

Comment Date: 5 p.m. Eastern Time on Friday, August 10, 2007.

Docket Numbers: ER07-1182-000.

Applicants: Midwest Independent Transmission System Operator, Inc.

Description: Midwest Independent Transmission System Operator, Inc submits its request for an extension of the Broad Constrained Area mitigation measures provided in their Open Access Transmission & energy Markets Tariff.

Filed Date: July 20, 2007.

Accession Number: 20070724-0134.

Comment Date: 5 p.m. Eastern Time on Friday, August 10, 2007.

Docket Numbers: ER07-1183-000.

Applicants: Susquehanna Energy Products, LLC.

Description: SIG Energy, LLLP submits a supplement to its June 8, 2007 Notice of Succession.

Filed Date: July 20, 2007.

Accession Number: 20070724-0133.

Comment Date: 5 p.m. Eastern Time on Friday, August 10, 2007.

Take notice that the Commission received the following electric securities filings:

Docket Numbers: ES07-41-000.

Applicants: Duquesne Light Company.

Description: Duquesne Light Co's Filing of Pro Forma Financial Statements.

Filed Date: July 19, 2007.

Accession Number: 20070719-5054.

Comment Date: 5 p.m. Eastern Time on Thursday, August 9, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose
Secretary.

[FR Doc. E7-14957 Filed 8-1-07; 8:45 am]

BILLING CODE 6717-01-P